FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than November 22, 2016.

A. Federal Reserve Bank of Richmond (Adam M. Drimer, Assistant Vice President) 701 East Byrd Street, Richmond, Virginia 23261-4528. Comments can also be sent electronically to Comments.applications@rich.frb.org:

1. Wayne L Culley and Patricia J Culley, as co-trustees of the Wayne L Culley Revocable Trust and the Patricia J Culley Revocable Trust, all of Cameron, Missouri and Keith Culley and Marcella Culley, both of St. Joseph, Missouri, as members of the Culley Family Control Group; to acquire voting shares of Farmers Bancshares Inc., and thereby acquire Independent Farmers Bank, both of Maysville, Missouri.

Board of Governors of the Federal Reserve System, November 2, 2016.
Michele Taylor Fennell,
Assistant Secretary of the Board.

[FR Doc. 2016-26864 Filed 11-7-16; 8:45 am]

BILLING CODE 6210-01-P